DEPARTMENT OF ENERGY

Federal Energy Regulatory Commission

[Docket No. ER01-845-000]

FirstEnergy Generation Corporation; Notice of Issuance of Order

February 28, 2001.

On December 28, 2000, FirstEnergy Generation Corporation, (hereafter “GENCO”, a recently formed subsidiary of FirstEnergy Services Corporation) filed with the Commission an application seeking the authority to sell energy and capacity at market-based rates. In its filing, GENCO also requested certain waivers and authorizations. In particular, GENCO requested that the Commission grant blanket approval under 18 CFR part 34 of all future issuances of securities and assumptions of liabilities by GENCO. On February 22, 2001, the Commission issued an Order Accepting For Filing Market-Based Rate Tariff And Granting Waivers And Blanket Authorizations (Order), in the above-docketed proceeding.

The Commission's February 22, 2001 Order granted the request for blanket approval under part 34, subject to the conditions found in Ordering Paragraphs (C), (D), and (F):

(C) Within 30 days of the date of issuance of this order, any person desiring to be heard or to protest the Commission's blanket approval of issuances of securities or assumptions of liabilities by GENCO should file a motion to intervene or protest with the Federal Energy Regulatory Commission, 888 First Street, NE., Washington, DC 20426, in accordance with Rules 211 and 214 of the Commission's Rules of Practice and Procedure, 18 CFR 385.211 and 385.214.

(D) Absent a request to be heard within the period set forth in Ordering Paragraph (C) above, GENCO is hereby authorized to issue securities and assume obligations and liabilities as guarantor, indorser, surety or otherwise in respect of any security of another person; provided that such issue or assumption is for some lawful object within the corporate purposes of GENCO, compatible with the public interest, and reasonably necessary or appropriate for such purposes.

(F) The Commission reserves the right to modify this order to require a further showing that neither public nor private interests will be adversely affected by continued Commission approval of GNECO's issuances of securities or assumptions of liabilities. * * *

Notice is hereby given that the deadline for filing motions to intervene or protests, as set forth above, is March 26, 2001.

Copies of the full text of the Order are available from the Commission's Public Reference Branch, 888 First Street, NE., Washington, DC 20426. The Order may also be viewed on the Internet at http://www.ferc.fed.us/online/rims.htm (call 202-208-2222 for assistance).

David P. Boergers,
Secretary.

[FR Doc. 01-5336 Filed 3-5-01; 8:45 am]

BILLING CODE 6717-01-M